DEPARTMENT OF AGRICULTURE

Forest Service

Black Hills National Forest, Northern Hills Ranger District, South Dakota, West Rim Project Area

AGENCY: Forest Service, USDA.

ACTION: Notice of intent to prepare an environmental impact statement.

SUMMARY: The Forest Service will prepare an environmental impact statement on a proposal to implement multiple resource management actions within the West Rim Project Area to implement the amended Black Hills National Forest Land and Resource Management Plan. The West Rim Project Area covers approximately 43,028 acres of National Forest System land and approximately 10,129 acres of interspersed private land southwest of Spearfish, South Dakota. a 1/2 mile buffer around all parcels of private land is identified as Wildland Urban Interface (WUI). Proposed actions include a combination of vegetation and fuels treatments to reduce fire hazard, reduce mountain pine beetle susceptibility, and improve vegetative diversity. The proposed action includes approximately 6,800 acres of commercial thinning, 3,500 acres of overstory removal, 13,700 acres of pre-commercial thinning, 2,300 acres of commercial seed cuts, 470 acres of fuel reduction treatments, and up to 13,800 acres of prescribed burning. Approximately 25 miles of new road construction would be necessary to carry out the proposed vegetation management actions.

DATES: Comments concerning the scope of the analysis must be received by October 15, 2007. The draft environmental impact statement is expected to be available February 2008 and the final environmental impact statement is expected to be completed by July 2008.

ADDRESSES: Send written comments to: Rhonda O'Byrne, District Ranger, Northern Hills Ranger District, 2014 North Main Street, Spearfish, SD 57783. Telephone number: (605) 642-4622. E-mail: comments-rocky-mountain-black-hills-northern-hills@fs.fed.us with ``West Rim Project'' as the subject.

FOR FURTHER INFORMATION CONTACT: Chris Stores, Assistant District Planner, Northern Hills Ranger District, 2014 North Main Street, Spearfish, SD 57783. Telephone number: (605) 642-4622.

SUPPLEMENTARY INFORMATION:

Purpose of and Need for Action

The purpose of and need for the actions proposed in the West Rim project area is to reduce fire hazard and the risk of mountain pine beetle infestation and to increase vegetative diversity. All actions are intended to move toward or achieve related forest Plan Goals and Objectives, consistent with forest Plan Standards and Guidelines.

Proposed Action

Proposed actions include the following:

Reduce the acres at moderate-to-high fire hazard by thinning stands to decrease crown proximity and by reducing fuel accumulations. Thinning may use commercial or non-commercial methods. Fuel reduction treatments could include lopping, chipping, crushing, piling and burning, construction of fuel breaks, and broadcast prescribed burning.

Reduce acres at high or medium susceptibility to mountain pine beetle by thinning stands and changing stand structure. Commercial and non-commercial (including prescribed burning) methods may be used.

Increase vegetative diversity through understory or overstory thinning, including commercial and non-commercial timber harvest. Remove ponderosa pine from hardwood, meadow, and riparian areas. Manage known location of old growth for old growth characteristics.

Road construction and maintenance activities necessary to access areas proposed for timber harvest. New roads would be closed following harvest, and existing roads that are not in the National Forest System could also be closed in conjunction with this project.

The Forest Service is the sole responsible agency for this project; no cooperators are participating in project planning.

Responsible Official

Rhonda O'Byrne, District Ranger, Northern Hills Ranger District, 2014 North Main Street, Spearfish, SD 57783.

Nature of Decision To Be Made

The decision to be made is whether or not to approve the proposed action or alternatives at this time. No Forest Plan amendments are proposed.

Scoping Process

Comments and input regarding the proposed action are being requested from the public and other interested parties in conjunction with this notice of intent. The comment period will be open for thirty days, beginning on the date of publication of this notice of intent. An open house to gather comments from local individuals and groups will be held on September 19, 2007, at the Northern Hills Ranger District office in Spearfish, SD. Also, response to the draft EIS will be sought from the interested public beginning approximately in February 2008.

Comment Requested

This notice of intent initiates the scoping process which guides the development of the environmental impact statement. It is our desire to involve interested parties and especially adjacent landowners in identifying the issues related to proposed activities. Comments will assist in identification of key issues and opportunities to develop project alternatives and mitigation measures.

Early Notice of Importance of Public Participation in Subsequent Environmental Review: A draft environmental impact statement will be prepared for comment. The comment period on the draft environmental impact statement will be 45 days (beginning approximately February 15, 2008) from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. it is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection (40 CFR 1501.7 and 1508.22; Forest Service Handbook 1909.15, section 21).

Dated: August 31, 2007.
Craig Bobzien,
Forest Supervisor, Black Hills National Forest.

[FR Doc. 07-4373 Filed 9-13-07; 8:45 am]

BILLING CODE 3410-11-M